DEPARTMENT OF EDUCATION

[CFDA No. 84.215F]

Office of Safe and Drug-Free Schools—Carol M. White Physical Education Program; Notice Inviting Applications for New Awards for Fiscal Year (FY) 2003

Purpose of Program: The Carol M. White Physical Education Program provides grants to initiate, expand, or improve physical education programs, including after-school programs, for students in one or more grades from kindergarten through 12th grade in order to help students make progress toward meeting State standards for physical education.

For FY 2003 the competition for new awards focuses on a statutory requirement we describe in the Statutory Requirements section of this application notice.

Eligible Applicants: Local educational agencies (LEAs) and community-based organizations (CBOs), including faith-based organizations provided that they meet applicable statutory and regulatory requirements.

Applications Available: April 1, 2003.

Deadline for Transmittal of Applications: May 12, 2003.

Deadline for Intergovernmental Review: July 12, 2003.

Estimated Available Funds: $59.5 million.

Estimated Range of Awards: $100,000-$500,000.

Estimated Average Size of Awards: $300,000.

Estimated Number of Awards: 198.

Note: The Department is not bound by any estimates in this notice.

Project Period: Up to 12 months.

Applicable Regulations: (a) The Education Department General Administrative Regulations (EDGAR) in 34 CFR parts 74, 75, 77, 79, 80, 81, 82, 85, 97, 98, and 99.

Statutory Requirements: We will award grants to LEAs and CBOs to pay the Federal share of the costs of initiating, expanding, or improving physical education programs (including after-school programs) for kindergarten through 12th grade students by—

(1) Providing equipment and support to enable students to participate actively in physical education activities, and

(2) Providing funds for staff and teacher training and education,

in order to make progress toward meeting State standards for physical education.

Administrative Costs

Not more than 5 percent of the grant funds made available to an LEA or CBO in any fiscal year may be used for administrative costs.

Federal Share

The Federal share for grants under this program may not exceed 90 percent of the total cost of a project.

Prohibition Against Supplanting

Grant funds made available under this program shall be used to supplement and not supplant other Federal, State, or local funds available for physical education activities.

Participation of Home-Schooled or Private School Students

An application for funds under this program may provide for the participation of students enrolled in private, nonprofit elementary or secondary schools and their parents and teachers, or home-schooled students and their parents and teachers.

Equitable Distribution

We will ensure, to the extent practicable, an equitable distribution of awards among applicants serving urban and rural areas.

Special Rule

Extracurricular activities, such as team sports and Reserve Officers' Training Corps (ROTC) program activities, shall not be considered as part of the curriculum of a physical education program.

SUPPLEMENTARY INFORMATION:

Novice Applicants

We encourage the participation of novice applicants, including faith-based organizations, in the Carol M. White Physical Education Program. Therefore, we will reserve up to 25 percent of available funds for grants to novice entities submitting high-quality applications. Applications submitted by eligible novice entities will be read, scored, ranked, and considered for funding separately from applications submitted by non-novice eligible entities.

Cap on Awards for Novice Applicants

The maximum award for which a novice applicant may apply is $150,000. Applications submitted for consideration under the novice provisions that request funding in excess of $150,000 will be read in the pool of applications submitted by non-novice entities.

Form Applications

An application under this program should address the specific needs of the population that the applicant proposes to serve, and activities should be designed to meet those needs. As a result, we strongly discourage applicants from using “form” applications or proposals that do not address the identified needs of their student population or that fail to provide a clear plan for helping students meet State standards for physical education.

Additional Awards

Contingent upon the availability of funds, we may make additional awards in FY 2004 from the rank-ordered list of unfunded applications from this competition.

Participation of Faith-Based Organizations

Faith-based organizations are eligible to apply for grants under this competition provided they meet all statutory and regulatory requirements.

Program Elements

A physical education program funded by the Carol M. White Physical Education Program may provide for one or more of the following:

(1) Fitness education and assessment to help students understand, improve, or maintain their physical well-being.

(2) Instruction in a variety of motor skills and physical activities designed to enhance the physical, mental, or social or emotional development of every student.

(3) Development of, and instruction in, cognitive concepts about motor skill and physical fitness that support a lifelong healthy lifestyle.

(4) Opportunities to develop positive social and cooperative skills through physical activity participation.

(5) Instruction in healthy eating habits and good nutrition.

(6) Opportunities for professional development for teachers of physical education to stay abreast of the latest research, issues, and trends in the field of physical education.

Definitions: For the purpose of this competition, terms used in this notice have the following meanings:

Local Educational Agency

(A) General. In general, the term local educational agency means a public board of education or other public authority legally constituted within a State for either administrative control or direction of, or to perform a service function for, public elementary schools or secondary schools in a city, county, township, school district, or other political subdivision of a State, or for a combination of school districts or counties that is recognized in a State as an administrative agency for its public elementary or secondary schools.

(B) Administrative control and direction. The term includes any other public institution or agency having administrative control and direction of a public elementary school or secondary school.

(C) BIA schools. The term includes an elementary school or secondary school funded by the Bureau of Indian Affairs, but only to the extent that including the school makes the school eligible for programs for which specific eligibility is not provided to the school in another provision of law and the school does not have a student population that is smaller than the student population of the local educational agency receiving assistance under the ESEA with the smallest student population, except that the school shall not be subject to the jurisdiction of any State educational agency other than the Bureau of Indian Affairs.

(D) Educational service agencies. The term includes educational service agencies and consortia of those agencies.

(E) State educational agency. The term includes the State educational agency in a State in which the State educational agency is the sole educational agency for all public schools.

Community-based organization means a public or private nonprofit organization of demonstrated effectiveness that: (a) is representative of a community or significant segments of a community; and (b) provides educational or related services to individuals in the community.

Nonprofit as applied to an agency, organization, or institution, means that it is owned and operated by one or more corporations or associations whose net earnings do not benefit, and cannot lawfully benefit, any private shareholder or entity.

Novice Applicant means—

(1) Any applicant for a grant from ED that—

(i) Has never received a grant or subgrant under the Carol M. White Physical Education program;

(ii) Has never been a member of a group application, submitted in accordance with §§ 75.127-75.129 of EDGAR, that received a grant under the Carol M. White Physical Education program; and

(iii) Has not had an active discretionary grant from the Federal Government in the five years before the deadline date for applications under this competition.

(2) In the case of a group application submitted in accordance with §§ 75.127-129, a group that includes only parties that meet the requirements of paragraph (1) of this definition.

Note: A grant is active until the end of the grant's project or funding period, including any extensions of those periods that extend the grantee's authority to obligate funds.

Selection Criteria

We use the following selection criteria to evaluate applications for new grants under this competition. The maximum score for all of these criteria is 100 points. The maximum score for each criterion or factor under that criterion is indicated in parentheses.

(1) Need for project. (25 points)

In determining the need for the proposed project, the following factor is considered:

(a) The extent to which specific gaps or weaknesses in services, infrastructure, or opportunities have been identified and will be addressed by the proposed project, including the nature and magnitude of those gaps or weaknesses.

(Note: The specific gaps or weaknesses we will be looking for are gaps and weaknesses in meeting State standards for physical education.)

(2) Significance. (25 points)

In determining the significance of the proposed project, the following factors are considered:

(a) The likelihood that the proposed project will result in system change or improvement;

(b) The extent to which the proposed project involves the development or demonstration of promising new strategies that build on, or are alternatives to, existing strategies; and

(c) The importance or magnitude of the results or outcomes likely to be attained by the proposed project, especially improvements in teaching and student achievement.

(Note: Under this criterion we will be looking at the applicant's approach to an integrated set of planned, sequential strategies and activities designed to help students understand, improve, or maintain their physical well-being and promote professional development for teachers of physical education.)

(3) Quality of the Project Design. (25 points)

In determining the quality of the design of the proposed project, the following factors are considered:

(a) The extent to which the proposed activities constitute a coherent, sustained program of training in the field;

(b) The extent to which the design of the proposed project reflects up-to-date knowledge from research and effective practice;

(c) The extent to which the goals, objectives, and outcomes to be achieved by the proposed project are clearly specified and measurable; and

(Note: Under this criterion we will be looking at the quality of the applicant's plan to help students make progress toward meeting State standards for physical education, including the linkage between proposed activities and State standards.)

(4) Quality of the Project Evaluation. (25 points)

In determining the quality of the evaluation, the following factors are considered:

(a) The extent to which the methods of evaluation include the use of objective performance measures that are clearly related to the intended outcomes of the project and will produce quantitative and qualitative data to the extent possible; and

(b) The extent to which the methods of evaluation will provide performance feedback and permit periodic assessment of progress toward achieving intended outcomes.

For Applications Contact: Education Publications Center (ED Pubs), P.O. Box 1398, Jessup, MD 20794-1398. Telephone (toll free): 1-877-433-7827. Fax: (301) 470-1244. If you use a telecommunications device for the deaf, you may call 1-877-576-7734. You may also contact ED Pubs at its Web site: http://www.ed.gov/pubs/edpubs/html. Or you may contact ED Pubs at its e-mail address: edpubs@inet.ed.gov.

If you request an application from ED Pubs, be sure to identify this competition as follows: CFDA number 84.215F.

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project of electronic submission of applications to include additional formula grant programs, as well as discretionary grant competitions. The Carol M. White Physical Education Program is one of the programs included in the pilot project. If you are an applicant under this grant competition, you may submit your application to us in either electronic or paper format.

The pilot project involves the use of the Electronic Grant Application System (e-Application, formerly e-GAPS) portion of the Grant Administration and Payment System (GAPS). We invite your participation in this pilot project. We will continue to evaluate its success and solicit suggestions for improvement.

If you participate in this e-Application pilot, please note the following:

• Your participation is voluntary.

• You will not receive any additional point value or penalty because you submit a grant application in electronic or paper format.

• You can submit all documents electronically, including the Application for Federal Assistance (ED Form 424), Budget Information—Non-Construction Programs, (ED Form 524), and all necessary assurances and certifications.

• Within three working days of submitting your electronic application, fax a signed copy of the Application for Federal Assistance (ED Form 424) to the Application Control Center following these steps:

1. Print ED Form 424 from the e-Application system.

2. Make sure that the applicant's Authorizing Representative signs this form.

3. Before faxing this form, submit your electronic application via the e-Application system. (You will receive an automatic acknowledgement, which will include a PR/Award number an identifying number unique to your application).

4. Place the PR/Award number in the upper right corner of ED Form 424.

5. Fax ED Form 424 to the Application Control Center within three business days of submitting your electronic application at (202) 260-1349.

6. We may request that you give us original signatures on all other forms at a later date.

7. Closing Date Extension in the case of System Unavailability: If you elect to participate in the e-Application pilot for the Carol M. White Physical Education Program and you are prevented from submitting your application on the closing date because the e-Application system is unavailable, we will grant you an extension of one business day in order to transmit your application via e-Application, by mail, or by hand delivery. For us to grant this extension:

(1) you must be a registered user of e-Applications, and have initiated an e-Application for this competition; and

(2)(a) The e-Application system must be unavailable for 60 minutes or more between the hours of 8:30 a.m. and 3:30 p.m. (ET), on the deadline date; or

(b) the e-Application system must be unavailable for any period of time during the last hour of operation (that is, for any period of time between 3:30 p.m. and 4:30 p.m. (ET)) on the deadline date. The Department must acknowledge and confirm the period of unavailability before granting you an extension. To request this extension you must contact Ethel Jackson by e-mail at Ethel.Jackson@ed.gov or by telephone at (202) 205-5471 or the e-Grants help desk at (888) 336-8930.

You may access the electronic grant application for the Carol M. White Physical Education Program at: http://e-grants.ed.gov.

We have included additional information on the e-Application pilot project (see Parity Guidelines between Paper and Electronic Applications) in the application package.

If you want to apply for a grant and be considered for funding, you must meet the deadline requirements included in this notice.

FOR FURTHER INFORMATION CONTACT: Ethel Jackson, U.S. Department of Education, 400 Maryland Avenue, SW., Washington, DC 20202-6123. Telephone: (202) 260-2812 or via Internet: Ethel.Jackson@ed.gov.

Individuals with disabilities may obtain this document, or an application package, in an alternative format (e.g., Braille, large print, audiotape, or computer diskette) on request to the contact person listed at the beginning of this section. However, the Department is not able to reproduce in an alternative format the standard forms included in the application package.

Electronic Access to This Document

You may view this document, as well as all other Department of Education documents published in the Federal Register, in text or Adobe Portable Document Format (PDF) on the Internet at the following site: http://www.ed.gov/legislation/FedRegister

Program Authority: 20 U.S.C. 7261.

Dated: March 27, 2003.
Eric Andell,
Deputy Under Secretary for Safe and Drug-Free Schools.

[FR Doc. 03-7970 Filed 3-31-03; 8:45 am]

BILLING CODE 4910-01-P